DEPARTMENT OF THE INTERIOR

Fish and Wildlife Service

Endangered and Threatened Wildlife and Plants; Second Information Request for the 5-Year Reviews of the Marbled Murrelet (Brachyramphus marmoratus marmoratus) and the Northern Spotted Owl (Strix occidentalis caurina)

AGENCY: Fish and Wildlife Service, Interior.

ACTION: Second information request for northern spotted owl and marbled murrelet 5-year reviews.

SUMMARY: We, the U.S. Fish and Wildlife Service, announce a second request for information for the 5-year reviews of the marbled murrelet (Brachyramphus marmoratus marmoratus) and the northern spotted owl (Strix occidentalis caurina) under section 4(c)(2)(A) of the Endangered Species Act (16 U.S.C. 1531 et seq.) (Act). The first request for information closed June 20, 2003. We are announcing this second request to allow the public additional time to provide information for these reviews. We are again requesting submission of any new information (best scientific and commercial data) on the marbled murrelet and the northern spotted owl that has become available since their original listings in 1992 and 1990, respectively. If the present classification of each of these species is not consistent with the best scientific and commercial information available, we may, at the conclusion of these reviews, initiate a separate action to propose changes to the List of Endangered and Threatened Wildlife and Plants (List) accordingly.

DATES: To allow us adequate time to conduct these reviews, we must receive your information no later than August 20, 2003. We want to emphasize that the timely submission of information is critical to ensure its use in these 5-year reviews.

ADDRESSES: Submit information to the Field Office Supervisor, Attention Owl and Murrelet 5-year Review, Oregon Fish and Wildlife Office, 2600 SE. 98th Avenue, Suite 100, Portland, Oregon 97266. Information received in response to this notice and the results of these reviews will be available for public inspection by appointment, during normal business hours, at the above address. New information regarding the northern spotted owl may be sent electronically to owl_information@r1.fws.gov. New information regarding the marbled murrelet may be sent electronically to murrelet_information@r1.fws.gov.

FOR FURTHER INFORMATION CONTACT: For the marbled murrelet, contact Lee Folliard at the above address, or at 503/231-6179. For the northern spotted owl, contact Robin Bown at the above address, or at 503/231-6179.

SUPPLEMENTARY INFORMATION: Section 4(c)(2)(A) of the Act requires that we conduct a review of listed species at least once every 5 years. The purpose of a 5-year review is to ensure that the classification of a species as threatened or endangered on the List is accurate. The 5-year review is an assessment of the best scientific and commercial data available at the time of the review that has become available since the species' original listing or its most recent status or 5-year review.

On April 21, 2003, we announced in a Federal Register notice (68 FR 19569) that we are commencing 5-year reviews of the marbled murrelet (Brachyramphus marmoratus marmoratus) and the northern spotted owl (Strix occidentalis caurina). We are conducting the reviews for these two species in connection with the January 13 and 14, 2003, settlement agreements for two lawsuits, Western Council of Industrial Workers v. Secretary of the Interior, Civil No. 02-6100-AA (D. Or.) and American Forest Resources Council v. Secretary of the Interior, Civil No. 02-6087-AA (D. Or.). The public comment period for the April 21, 2003, notice ended June 20, 2003. However, to allow additional time for the public to submit information, amendments to the settlement agreements were filed on June 30, 2003, with the District Court in Oregon extending the deadlines for completing the reviews. In accordance with the amended settlement agreements, we are reopening the public comment periods on these reviews until August 20, 2003.

The 5-year reviews for these two species will assess: (a) Whether new information suggests that the species' populations are increasing, declining, or stable; (b) whether existing threats are increasing, the same, reduced, or eliminated; (c) if there are any new threats; and (d) if new information or analysis calls into question any of the conclusions in the original listing determinations as to the species' status. The reviews will also apply this new information to consideration of the appropriate application of the Policy Regarding the Recognition of Distinct Vertebrate Population Segments (61 FR 4722) to the listed entity, if applicable.

If there is no new information concerning the marbled murrelet or northern spotted owl, no changes will be made to their classifications. However, if we find that there is new information concerning the marbled murrelet or northern spotted owl indicating a change in classification is warranted, we may propose new rules that could either: (a) Reclassify the species from threatened to endangered; or (b) remove the species from the List.

Public Solicitation of New Information

We are publishing this second request for any new information relating to the current status of the northern spotted owl and marbled murrelet that has become available since their original listing. In particular, we are seeking information such as:

A. Species biology including, but not limited to, population trends, distribution, abundance, demographics, and genetics;

B. Habitat conditions including, but not limited to, amount, distribution, and suitability;

C. Conservation measures that have been implemented that benefit the species;

D. Threat status and trends; and

E. Other new information, data, or corrections including, but not limited to, taxonomic or nomenclatural changes, or improved analytical methods.

Specifically for the spotted owl and murrelet we are interested in new information, analyses, and/or reports for these species that summarize and interpret their population status and related threats. The reviews will consider information such as: Population and demographic trend data; studies of dispersal and habitat use; genetics and species competition investigations; surveys of habitat amount, quality, and distribution; adequacy of existing regulatory mechanisms; and management and conservation planning information. We request this information for all applicable land ownerships within the range of both species.

Information submitted should be supported by documentation such as maps, bibliographic references, methods used to gather and analyze the data, and/or copies of any pertinent publications, reports, or letters by knowledgeable sources.

Authority: This document is published under the authority of the Endangered Species Act (16 U.S.C. 1531 et seq.).

Dated: July 16, 2003.
Marshall P. Jones,
Acting Director, Fish and Wildlife Service.

[FR Doc. 03-19039 Filed 7-22-03; 4:48 pm]

BILLING CODE 4310-55-P